DEPARTMENT OF THE INTERIOR

Bureau of Land Management

[LLCA942000 L57000000.BX0000 15X L5017AR]

Filing of Plats of Survey: California

AGENCY: Bureau of Land Management, Interior.

ACTION: Notice.

SUMMARY: The plats of survey of lands described below are scheduled to be officially filed in the Bureau of Land Management, California State Office, Sacramento, California.

DATES: January 4, 2017.

ADDRESSES: A copy of the plats may be obtained from the California State Office, Bureau of Land Management, 2800 Cottage Way, Sacramento, California 95825, upon required payment.

FOR FURTHER INFORMATION CONTACT: Chief, Branch of Geographic Services, Bureau of Land Management, California State Office, 2800 Cottage Way W-1623, Sacramento, California 95825, 1-916-978-4310. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: A person or party who wishes to protest a survey must file a notice that they wish to protest with the Chief, Branch of Geographic Services. A statement of reasons for a protest may be filed with the notice of protest and must be filed with the Chief, Branch of Geographic Services within thirty days after the protest is filed. If a protest against the survey is received prior to the date of official filing, the filing will be stayed pending consideration of the protest. A plat will not be officially filed until the day after all protests have been dismissed or otherwise resolved. Before including your address, phone number, email address, or other personal identifying information in your comment, you should be aware that your entire comment—including your personal identifying information—may be made publicly available at any time. While you can ask us in your comment to withhold your personal identifying information from public review, we cannot guarantee that we will be able to do so.

Mount Diablo Meridian, California

T. 17 S., R. 38 E., the corrective dependent resurvey of a portion of the Fourth Standard Parallel South and a portion of the subdivisional lines, the dependent resurvey of a portion of the subdivisional lines and a portion of the 1856 meanders of Owens Lake and the subdivision of sections 4 and 9, accepted August 31, 2016.

T. 37 N., R. 4 E., the metes-and-bounds survey of a certain parcel in section 12, accepted August 31, 2016.

T. 30 S., R. 41 E., the dependent resurvey of a portion of the north boundary, a portion of the subdivisional lines, a portion of the subdivision of section lines in sections 6 and 7, a portion of certain lot lines, and Mineral Survey No. 5813, and the metes-and-bounds survey of certain new lot lines, accepted September 20, 2016.

T. 21 N., R. 9 W., the metes-and-bounds survey of a portion of section 2 and Tract 37 in section 2, accepted September 23, 2016.

T. 1 S., R. 13 E., the dependent resurvey of a portion of the subdivisional lines and the subdivision of section 11, accepted October 25, 2016.

San Bernardino Meridian, California

T. 1 N., R. 9 E., the metes-and-bounds survey of a certain parcel in section 33, accepted August 25, 2016.

Authority: Authority: 43 U.S.C., Chapter 3.

Dated: November 18, 2016.
Jon L. Kehler,
Chief Cadastral Surveyor, California.

[FR Doc. 2016-29065 Filed 12-2-16; 8:45 am]

BILLING CODE 4310-40-P